DEPARTMENT OF EDUCATION

[Docket ID ED-2023-OPE-0164]

Privacy Act of 1974; System of Records

AGENCY: Office of Postsecondary Education, U.S. Department of Education.

ACTION: Notice of a modified system of records.

SUMMARY: In accordance with the Privacy Act of 1974, as amended (Privacy Act), the U.S Department of Education (Department) publishes this notice of a modified system of records entitled and numbered “Fulbright-Hays—Doctoral Dissertation Research Abroad (DDRA), Faculty Research Abroad (FRA), and Seminars Abroad (SA)” (18-12-02), which was formerly entitled and numbered “Fulbright-Hays—Doctoral Dissertation Research Abroad (DDRA) and Seminars Abroad (SA)” (18-12-02). The information contained in this system is used to determine applicants' qualifications, eligibility, suitability, and feasibility to receive a fellowship under the DDRA, FRA, and SA programs; to award benefits for overseas research; to monitor the progress of the projects funded under these programs, including their accomplishments; and, to demonstrate the programs' effectiveness. This system of records notice is being modified to cover the FRA program records. In fiscal year 2011, funding for the Department's International and Foreign Language Education (IFLE) office, which administers the Fulbright-Hays programs, was cut significantly, and the FRA program was discontinued as a result. The Department therefore removed the FRA program from this system of records notice. Recently, funding for IFLE has increased. As such, IFLE now wishes to reinstate the FRA program, and it is therefore necessary for the Department to modify this system of records notice to again cover FRA program records.

DATES: Submit your comments on this modified system of records notice on or before January 22, 2024.

This modified system of records notice will become applicable upon publication in the Federal Register on December 22, 2023, except for new and modified routine uses (3), (11), and (15) that are outlined in the section entitled “ROUTINE USES OF RECORDS MAINTAINED IN THE SYSTEM, INCLUDING CATEGORIES OF USERS AND PURPOSES OF SUCH USES,” which will be applicable on January 22, 2024, unless they need to be changed as a result of public comment. The Department will publish any changes to the modified system of records notice resulting from public comment.

ADDRESSES: Comments must be submitted via the Federal eRulemaking Portal at regulations.gov. However, if you require an accommodation or cannot otherwise submit your comments via regulations.gov, please contact the program contact person listed under FOR FURTHER INFORMATION CONTACT. The Department will not accept comments after the comment period closes. To ensure that the Department does not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “FAQ” tab.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Amy Marrion, International and Foreign Language Education, Office of Postsecondary Education. Telephone: (202) 987-1083. Email: Amy.Marrion@ed.gov.

If you are deaf, hard of hearing, or have a speech disability and wish to access telecommunications relay services, please dial 7-1-1.

SUPPLEMENTARY INFORMATION: In accordance with the Privacy Act, the Department is modifying the system of records entitled and numbered “Fulbright-Hays—Doctoral Dissertation Research Abroad (DDRA), Faculty Research Abroad (FRA), and Seminars Abroad (SA)” (18-12-02), which was formerly entitled and numbered “Fulbright-Hays—Doctoral Dissertation Research Abroad (DDRA) and Seminars Abroad (SA)” (18-12-02) when the system of records notice was last published in full in the Federal Register on August 13, 2019 (84 FR 40033).

The Department is modifying the section entitled “SYSTEM NAME AND NUMBER” to include “Faculty Research Abroad (FRA)” in the system name.

The Department is modifying the section entitled “SYSTEM LOCATION” to remove the name and location of AppNet.

The Department is modifying the section entitled “SYSTEM MANAGER(S)” to replace the name of the system manager with the title of the system manager and to make minor updates to the contact information of the system manager within the Office of Postsecondary Education.

The Department is modifying the section entitled “CATEGORIES OF RECORDS IN THE SYSTEM” to cover FRA, including information about individual fellowship applications, performance reports, overseas travel requests, and grant activation requests.

The Department is modifying the section entitled “ROUTINE USES OF RECORDS MAINTAINED IN THE SYSTEM, INCLUDING CATEGORIES OF USERS AND PURPOSES OF SUCH USES” as follows:

(i) Routine use (3) is being modified to clarify that it applies to “judicial or administrative” litigation, rather than just “litigation,” in order to make the routine use more specific and clearer;

(ii) Routine use (11) is being modified to clarify that the Department may disclose the records of an individual to a Member of Congress or their staff when necessary to respond to an inquiry from the Member and that the Member's request must be made not only at the written request of, but also on behalf of, the individual whose records are being disclosed; and

(iii) Newly numbered routine use (15) entitled “Disclosure to the National Archives and Records Administration (NARA)” is being added to permit disclosures to NARA for the purpose of records management inspections conducted under the authority of 44 U.S.C. 2904 and 2906.

The Department is modifying the section entitled “POLICIES AND PRACTICES FOR STORAGE OF RECORDS” to remove the reference to hard copy records, and to identify the electronic system that houses IFLE fellow award records.

The Department is modifying the section entitled “POLICIES AND PRACTICES FOR RETRIEVAL OF RECORDS” to delete and replace “[h]ardcopy and electronic files” with “records.”

The Department is modifying the section entitled “ADMINISTRATIVE, TECHNICAL, AND PHYSICAL SAFEGUARDS” to remove all references to AppNet and hard copy files, and replace with language referencing electronic program files in the G5 and the International Resource Information System (IRIS) systems; and include the Federal Information Security Management Act of 2002 (FISMA), as amended by the Federal Information Security Modernization Act of 2014, requirements of a signed Authorization to Operate (ATO) and its assessment of security controls.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Nasser Paydar,
Assistant Secretary, Office for Postsecondary Education.

For the reasons discussed in the preamble, the Assistant Secretary for Postsecondary Education of the U.S. Department of Education (Department), publishes a notice of a modified system of records to read as follows:

SYSTEM NAME AND NUMBER:

Fulbright-Hays-Doctoral Dissertation Research Abroad (DDRA), Faculty Research Abroad (FRA), and Seminars Abroad (SA) (18-12-02).

SECURITY CLASSIFICATION:

Unclassified.

SYSTEM LOCATION:

International and Foreign Language Education (IFLE), Office of Postsecondary Education, U.S. Department of Education, 400 Maryland Avenue SW, Washington, DC 20202-6110.

SYSTEM MANAGER(S):

Program Officer, Fulbright-Hays Programs, International and Foreign Language Education (IFLE), Office of Postsecondary Education, U.S. Department of Education, 400 Maryland Avenue SW, Washington, DC 20202-6110.

AUTHORITY FOR MAINTENANCE OF THE SYSTEM:

The Mutual Educational and Cultural Exchange Act of 1961, as amended (22 U.S.C. 2451-2458).

PURPOSE(S) OF THE SYSTEM:

The information contained in this system is used for the following purposes: (1) to determine an applicant's qualifications, eligibility, suitability, and feasibility to receive a fellowship under the DDRA, FRA, and SA programs; (2) to award benefits for overseas research; (3) to monitor the progress of the projects funded under these programs, including their accomplishments; and (4) to demonstrate these programs' effectiveness.

CATEGORIES OF INDIVIDUALS COVERED BY THE SYSTEM:

This system contains records on teachers, prospective teachers, or doctoral candidates who apply for or are selected to be recipients for Fulbright-Hays awards to enable them to engage in foreign language and area studies projects overseas.

CATEGORIES OF RECORDS IN THE SYSTEM:

The system of records consists of a variety of records relating to an individual's application for, and participation in, the Fulbright-Hays DDRA, FRA, or SA programs. In addition to the individual's name, the system contains the individual's address, telephone number, email address, educational institution, date and place of birth, citizenship, veteran status, accompanying dependents' names, previous overseas travel, educational and employment background, student loan default status, health statement, transcripts, references, project description and project cost based on either the cost of living in the host country or the annualized salary of a faculty member, field reader and U.S. Embassy comments, award documents, individual fellowship applications, overseas travel requests, grant activation requests and final individual fellowship project reports.

RECORD SOURCE CATEGORIES:

Information is obtained from the individual on approved application forms and from field readers and may be secured from the U.S. Department of State, U.S. embassies, binational commissions, the J. William Fulbright Foreign Scholarship Board, and foreign educators and officials. Information in this system also may be obtained from other persons or entities from which data is obtained under routine uses set forth below.

ROUTINE USES OF RECORDS MAINTAINED IN THE SYSTEM, INCLUDING CATEGORIES OF USERS AND PURPOSES OF SUCH USES:

The Department may disclose information contained in a record in this system of records under the routine uses listed in this system of records without the consent of the individual if the disclosure is compatible with the purposes for which the record was collected. These disclosures may be made on a case-by-case basis or, if the Department has complied with the computer matching requirements of the Privacy Act of 1974, as amended (Privacy Act) (5 U.S.C. 552a), under a computer matching agreement (CMA).

(1) Program Disclosure. The Department may disclose information to field readers, the U.S. Department of State, U.S. embassies, binational commissions, the J. William Fulbright Foreign Scholarship Board, or to foreign educators or officials so that the information can be used to determine the qualifications, eligibility, suitability, feasibility, and award benefits for overseas research.

(2) Enforcement Disclosure. If information in this system of records, either alone or in connection with other information, indicates a violation or potential violation of any applicable statutory, regulatory, or legally binding requirement, the Department may disclose records to an entity charged with investigating or prosecuting those violations or potential violations.

(3) Litigation and Alternative Dispute Resolution (ADR) Disclosure.

(a) Introduction. In the event that one of the parties listed below is involved in judicial or administrative litigation or ADR, or has an interest in such litigation or ADR, the Department may disclose certain records to the parties described in paragraphs (b), (c) and (d) of this routine use under the conditions specified in those paragraphs:

(i) The Department, or any of its components;

(ii) Any Department employee in their official capacity;

(iii) Any Department employee in their individual capacity where the Department of Justice (DOJ) agrees to or has been requested to provide or arrange for representation for the employee;

(iv) Any Department employee in their individual capacity where the agency has agreed to represent the employee;

(v) The United States, where the Department determines that the litigation is likely to affect the Department or any of its components.

(b) Disclosure to the DOJ. If the Department determines that disclosure of certain records to the DOJ is relevant and necessary to the judicial or administrative litigation or ADR, the Department may disclose those records as a routine use to the DOJ.

(c) Adjudicative Disclosure. If the Department determines that disclosure of certain records to an adjudicative body before which the Department is authorized to appear, or to a person or entity designated by the Department or otherwise empowered to resolve or mediate disputes, is relevant and necessary to the judicial or administrative litigation or ADR, the Department may disclose those records as a routine use to the adjudicative body, individual, or entity.

(d) Disclosure to Parties, Counsels, Representatives, and Witnesses. If the Department determines that disclosure of certain records is relevant and necessary to the judicial or administrative litigation or ADR, the Department may disclose those records as a routine use to the party, counsel, representative, or witness.

(4) Employment, Benefit, and Contracting Disclosure.

(a) For Decisions by the Department. The Department may disclose a record to a Federal, State, or local agency maintaining civil, criminal, or other relevant enforcement or other pertinent records, or to another public authority or professional organization, if necessary to obtain information relevant to a Department decision concerning the hiring or retention of an employee or other personnel action, the issuance of a security clearance, the letting of a contract, or the issuance of a license, grant, or other benefit.

(b) For Decisions by Other Public Agencies and Professional Organizations. The Department may disclose a record to a Federal, State, local, or foreign agency, or other public authority or professional organization, in connection with the hiring or retention of an employee or other personnel action, the issuance of a security clearance, the reporting of an investigation of an employee, the letting of a contract, or the issuance of a license, grant, or other benefit, to the extent that the record is relevant and necessary to the receiving entity's decision on the matter.

(5) Employee Grievance, Complaint or Conduct Disclosure. If a record is relevant and necessary to an employee grievance, complaint, or disciplinary action involving a present or former employee of the Department, the Department may disclose a record in this system of records in the course of investigation, fact-finding, or adjudication, to any party to the grievance, complaint, or action; to the party's counsel or representative; to a witness; or, to a designated fact-finder, mediator, or other person designated to resolve issues or decide the matter.

(6) Labor Organization Disclosure. The Department may disclose a record from this system of records to an arbitrator to resolve disputes under a negotiated grievance procedure or to officials of a labor organization recognized under 5 U.S.C. chapter 71 when relevant and necessary to their duties of exclusive representation.

(7) Freedom of Information Act (FOIA) or Privacy Act Advice Disclosure. The Department may disclose records to the DOJ or to the Office of Management and Budget (OMB) if the Department determines that disclosure is desirable or necessary in determining whether particular records are required to be disclosed under the FOIA or the Privacy Act.

(8) Disclosure to the DOJ. The Department may disclose records to the DOJ to the extent necessary for obtaining DOJ advice on any matter relevant to an audit, inspection, or other inquiry related to the programs covered by this system.

(9) Contract Disclosure. If the Department contracts with an entity for the purposes of performing any function that requires disclosure of records in this system to employees of the contractor, the Department may disclose the records to those employees. As part of such a contract, the Department will require the contractor to agree to establish and maintain safeguards to protect the security and confidentiality of the disclosed records.

(10) Research Disclosure. The Department may disclose records to a researcher if the Department determines that the individual or organization to which the disclosure would be made is qualified to carry out specific research related to functions or purposes of this system of records. The Department may disclose records from this system of records to that researcher solely for the purpose of carrying out that research related to the functions or purposes of this system of records. The researcher shall be required to agree to establish and maintain safeguards to protect the security and confidentiality of the disclosed records.

(11) Congressional Member Disclosure. The Department may disclose the records of an individual to a Member of Congress or the Member's staff when necessary to respond to an inquiry from the Member made at the written request of that individual and on behalf of that individual. The Member's right to the information is no greater than the right of the individual who requested it.

(12) Disclosure to OMB and the Congressional Budget Office (CBO) for Federal Credit Reform Act (CRA) Support. The Department may disclose records to OMB and CBO as necessary to fulfill CRA requirements in accordance with 2 U.S.C. 661b.

(13) Disclosure in the Course of Responding to Breach of Data. The Department may disclose records from this system to appropriate agencies, entities, and persons when (a) the Department suspects or has confirmed that there has been a breach of the system of records; (b) the Department has determined that as a result of the suspected or confirmed breach there is a risk of harm to individuals, the Department (including its information systems, programs, and operations), the Federal Government, or national security; and (c) the disclosure made to such agencies, entities, and persons is reasonably necessary to assist in connection with the Department's efforts to respond to the suspected or confirmed breach or to prevent, minimize, or remedy such harm.

(14) Disclosure in Assisting another Agency in Responding to a Breach of Data. The Department may disclose records from this system to another Federal agency or Federal entity, when the Department determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

(15) Disclosure to the National Archives and Records Administration (NARA). The Department may disclose records from this system of records to NARA for the purpose of records management inspections conducted under authority of 44 U.S.C. 2904 and 2906.

POLICIES AND PRACTICES FOR STORAGE OF RECORDS:

The performance reporting records are stored in IRIS, IFLE's online annual performance reporting system, and are accessible to individual participants, participants' institutions, and Department personnel.

POLICIES AND PRACTICES FOR RETRIEVAL OF RECORDS:

Records are retrieved by individual names, award number, and name of educational institution.

POLICIES AND PRACTICES FOR RETENTION AND DISPOSAL OF RECORDS:

All records are retained and disposed of in accordance with General Records Schedule 1.2: Grant and Cooperative Agreement Records (GRS 1.2), Items 020 and 021. Records of successful applications are destroyed, in accordance with GRS 1.2, Item 020, 10 years after final action is taken on the applicant's case file, but longer retention is authorized if required for business use. Records of unsuccessful applications are destroyed, in accordance with GRS 1.2, Item 021, 3 years after final action is taken on the applicant's case file, but longer retention is authorized if required for business use.

ADMINISTRATIVE, TECHNICAL AND PHYSICAL SAFEGUARDS:

Grantee applications and financial records are stored in the Department's G5 system, which is covered by the system of records notice entitled “Education's Central Automated Processing System (EDCAPS)” (18-04-04) that was last modified and published in full in the Federal Register on December 24, 2015 (80 FR 80331-80339). All individual fellow performance report files are stored in IFLE's IRIS system. In IRIS, fellowship files are accessible to grantee institutions that distribute funds to the fellows, fellows, and IFLE program staff through the use of usernames and passwords. In accordance with the Federal Information Security Management Act of 2002 (FISMA), as amended by the Federal Information Security Modernization Act of 2014, every Department system must receive a signed Authorization to Operate (ATO) from a designated Department official. The ATO process includes a rigorous assessment of security and privacy controls, a plan of actions and milestones to remediate any identified deficiencies, and a continuous monitoring program.

FISMA controls implemented are comprised of a combination of management, operational, and technical controls, and include the following control families: access control, awareness and training, audit and accountability, security assessment and authorization, configuration management, contingency planning, identification and authentication, incident response, maintenance, media protection, physical and environmental protection, planning, personnel security, privacy, risk assessment, system and services acquisition, system and communications protection, system and information integrity, and program management.

RECORD ACCESS PROCEDURES:

If you wish to gain access to records regarding you in this system of records, contact the system manager at the address listed above. Requests must contain the necessary particulars, such as your full name, date of birth, the year of the award, the name of the grantee institution, major country in which you conducted your educational activity, and any other identifying information requested by the Department while processing the request in order to distinguish between individuals with the same name. Your request must meet the requirements of the regulations at 34 CFR 5b.5.

CONTESTING RECORD PROCEDURES:

If you wish to contest the content of a record regarding you in this system of records, contact the system manager at the address listed above. Requests should contain your full name, date of birth, the year of the award, the name of the grantee institution, major country in which you conducted your educational activity, and any other identifying information requested by the Department while processing the request in order to distinguish between individuals with the same name. Your request must meet the requirements of the regulations at 34 CFR 5b.7.

NOTIFICATION PROCEDURES:

If you wish to determine whether a record exists regarding you in the system of records, contact the system manager at the address listed above. Requests must contain the necessary particulars, such as your full name, date of birth, the year of the award, the name of the grantee institution, major country in which you conducted your educational activity, and any other identifying information requested by the Department while processing the request in order to distinguish between individuals with the same name. Your request must meet the requirements of the regulations at 34 CFR 5b.5.

EXEMPTIONS PROMULGATED FOR THE SYSTEM:

None.

HISTORY:

The system of records entitled “Fulbright-Hays—Doctoral Dissertation Research Abroad (DDRA), Faculty Research Abroad (FRA), and Seminars Abroad (SA)” (18-12-02), was last modified and published in full in the Federal Register on August 13, 2019 (84 FR 40033-40037).

[FR Doc. 2023-28161 Filed 12-21-23; 8:45 am]

BILLING CODE 4000-01-P